SOCIAL SECURITY ADMINISTRATION

[Docket No. SSA-2018-0060]

Privacy Act of 1974; System of Records

AGENCY: Office of Retirement and Disability Policy, Office of Income Security Programs, Social Security Administration (SSA).

ACTION: Notice of a modified system of records.

SUMMARY: In accordance with the Privacy Act, we are issuing public notice of our intent to modify an existing system of records, entitled Master Representative Payee File (60-0222), last published in full on April 22, 2013. This notice publishes details of the modified system as set forth under the caption, SUPPLEMENTARY INFORMATION.

DATES: The system of records notice (SORN) is applicable upon its publication in today's Federal Register, with the exception of the new routine uses, which are effective December 3, 2018. We invite public comment on the routine uses or other aspects of this SORN. In accordance with 5 U.S.C. 552a(e)(4) and (e)(11), the public is given a 30-day period in which to submit comments. Therefore, please submit any comments by December 3, 2018.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov, please reference docket number SSA-2018-0060. All comments we receive will be available for public inspection at the above address and we will post them to http://www.regulations.gov.

FOR FURTHER INFORMATION CONTACT: Andrea Huseth, Government Information Specialist, Disclosure and Data Support Division, Office of Privacy and Disclosure, Office of the General Counsel, SSA, Room G-401 West High Rise, 6401 Security Boulevard, Baltimore, Maryland 21235-6401, telephone: (410) 965-6868, email: andrea.huseth@ssa.gov and Tristin Dorsey, Government Information Specialist, Privacy Implementation Division, Office of Privacy and Disclosure, Office of the General Counsel, SSA, Room G-401 West High Rise, 6401 Security Boulevard, Baltimore, Maryland 21235-6401, telephone: (410) 965-2950, email: tristin.dorsey@ssa.gov.

SUPPLEMENTARY INFORMATION: Social Security's representative payee program provides financial management for Social Security beneficiaries, Supplemental Security Income (SSI) recipients, and Special Veterans Benefits recipients who are incapable of managing their benefits or payments. The representative payee's primary responsibility is to use the beneficiary's benefits or recipient's payments for the beneficiary's or recipient's current and foreseeable needs. The Strengthening Protections for Social Security Beneficiaries Act of 2018 (H.R. 4547, Pub. L. 115-165, hereafter referred to as Pub. L. 115-165) directs SSA to conduct background investigations on certain representative payees at least once every five years. Routine use #19 currently allows for the disclosure of representative payee information to third parties to obtain criminal history information. As of 2013, SSA's policy was to make such disclosures via routine use #19 at the time a representative payee applied to become a representative payee. We are notifying all current representative payees and future representative payee applicants (with some exceptions, discussed below) that SSA will begin, in accordance with Public Law 115-165, making such disclosures under routine use #19 both at the time of application and on a continuing basis at least once every five years. Beginning in 2019 for all current representative payees, SSA will make disclosures under routine use #19, and will do so at least once every five years. We may, however, exempt certain close family members serving as representative payees (including but not limited to the custodial parent of a minor beneficiary/recipient, spouse of a beneficiary/recipient, and custodial court appointed guardian of a beneficiary/recipient) from the background investigation process. Any representative payee who does not want his or her information disclosed to a third party for background investigation purposes should terminate his or her representative payee appointment in accordance with agency policy.

We are modifying the authority for maintenance of the system to include Public Law 115-165. We are revising the category of records to specify that we will maintain records in support of representative payee reviews, including educational visits, in this system and to clarify that criminal history information may include records addressing inaccuracies (e.g., records a representative payee provides to disprove criminal background information obtained from a third party). We are clarifying when and on whom we will conduct background checks and that we may retrieve records by beneficiary, recipient, or claimant personally identifying information (PII), in addition to, that of the representative payee. We are expanding the record source categories to include grantees, as a result of Public Law 115-165, and to local and state government agencies. We are also adding new routine use #24 to permit disclosures to other Federal agencies and entities, for the purpose of assisting in breach responses. Lastly, we are modifying the notice throughout to correct miscellaneous stylistic formatting and typographical errors of the previously published notice, and to ensure the language reads consistently across multiple systems. The entire notice is being republished for ease of reference.

In accordance with 5 U.S.C. 552a(r), we provided a report to OMB and Congress on this revised system of records.

Dated: October 24, 2018.
Mary Zimmerman,
Acting Executive Director, Office of Privacy and Disclosure, Office of the General Counsel.

SYSTEM NAME AND NUMBER

Master Representative Payee File, 60-0222.

SECURITY CLASSIFICATION:

Unclassified.

SYSTEM LOCATION:

Social Security Administration, Office of Retirement and Disability Policy, 6401 Security Boulevard, Baltimore, MD 21235.

SYSTEM MANAGER(S):

Social Security Administration, Deputy Commissioner for the Office of Retirement and Disability Policy, 6401 Security Boulevard, Baltimore, MD 21235, DCRDP.Controls@ssa.gov.

AUTHORITY FOR MAINTENANCE OF THE SYSTEM:

Sections 205(a), 205(j), 208, 807, 811, 1631(a), and 1632 of the Social Security Act, as amended, the Social Security Protection Act of 2004 (Pub. L. 108-203), and the Strengthening Protections for Social Security Beneficiaries Act of 2018 (Pub. L. 115-165).

PURPOSE(S) OF THE SYSTEM:

We will use the information in this system to assist us in the selection process of a representative payee by enabling Social Security field offices to better screen applicants to determine their suitability to become and remain representative payees. We will also use the data for management information and workload projection purposes, and to prepare annual reports to Congress on representative payee activities.

CATEGORIES OF INDIVIDUALS COVERED BY THE SYSTEM:

This system maintains information about all representative payees and representative payee applicants, including persons whose certifications as representative payees have been revoked or terminated on or after January 1, 1991; persons who have been convicted of a violation of sections 208, 811, and 1632 of the Social Security Act, as amended; persons convicted under other statutes in connection with services as a representative payee, and others whose certification as a representative payee SSA has revoked due to misuse of funds paid under Title II, Title VIII, and Title XVI of the Social Security Act; persons who are acting or have acted as representative payees; representative payee applicants who were not selected to serve as representative payees; representative payee applicants who have been convicted of an offense resulting in more than one (1) year imprisonment; representative payees and representative payee applicants who have an outstanding felony warrant; organizational payees who have been authorized to collect a fee for their service; and beneficiaries, recipients, or claimants who are or may be served by representative payees.

CATEGORIES OF RECORDS IN THE SYSTEM:

This system maintains records that consist of the following:

1. Names and Social Security numbers (SSNs) (or employer identification numbers (EINs)) of representative payees whose certifications for payment of benefits as representative payees have been revoked or terminated on or after January 1, 1991, because of misuse of benefits under Title II, Title VIII, or Title XVI of the Social Security Act;

2. Names and SSNs (or EINs) of all persons convicted of violations of sections 208, 811, and 1632 of the Social Security Act, as amended;

3. Names, addresses, and SSNs (or EINs) of persons convicted of violations of statutes other than sections 208, 811, and 1632 of the Social Security Act, when such violations were committed in connection with the individual's service as a Social Security representative payee;

4. Names, addresses, SSNs, and information about representative payee or representative payee applicant self-reported crimes, outstanding felony warrants, or imprisonment for a period exceeding one (1) year (an indicator will be used in the system to identify persons identified as having an outstanding felony warrant);

5. Names, addresses, and SSNs (or EINs) of representative payees who are receiving benefit payments pursuant to sections 205(j), 807, or 1631(a)(2) of the Social Security Act;

6. Names, addresses, and SSNs of persons for whom representative payees are reported to be providing representative payee services under sections 205(j), 807, or 1631(a)(2) of the Social Security Act;

7. Names, addresses, and SSNs of representative payee applicants who were not selected as representative payees;

8. Names, addresses, and SSNs of persons who were terminated as representative payees for reasons other than misuse of benefits paid to them on behalf of beneficiaries or recipients;

9. Information concerning the representative payee's relationship to the beneficiaries or recipients they serve;

10. Names, addresses, EINs, and qualifying information of organizations authorized to charge a fee for providing representative payee services;

11. Codes which indicate the relationship (other than familial) between the beneficiaries or recipients and the persons who have custody of the beneficiaries or recipients;

12. Dates and reasons for representative payee terminations (e.g., performance not acceptable, death of payee, beneficiary in direct payment, etc.) and revocations;

13. Codes indicating whether representative payee applicants were selected or not selected;

14. Dates and reasons representative payee applicants were not selected to serve as payees, dates and reasons for changes of payees (e.g., beneficiary in direct payment, a criminal history etc.);

15. Amount of benefits misused;

16. Identification number assigned to the claim on which the misuse occurred;

17. Date of the determination of misuse;

18. Information about a felony conviction reported by the representative payee;

19. Criminal history information obtained from SSA databases, representative payees, third parties, contractors, and other Federal agencies, including records that dispute criminal history information provided by third parties;

20. Annual payee accounting reports; and,

21. Records of representative payee reviews, including educational visits.

RECORD SOURCE CATEGORIES:

We obtain information in this system from representative payee applicants and representative payees; third parties, contractors, grantees and local, state, and Federal government agencies; the SSA Office of Inspector General; and existing SSA systems of records such as the Master Files of SSN Holders and SSN Applications, 60-0058; Claims Folders System, 60-0089; Master Beneficiary Record, 60-0090; SSI Record and Special Veterans Benefits, 60-0103; Recovery of Overpayments, Accounting and Reporting/Debt Management System, 60-0094; and Prisoner Update Processing System, 60-0269.

ROUTINE USES OF RECORDS MAINTAINED IN THE SYSTEM, INCLUDING CATEGORIES OF USERS AND THE PURPOSES OF SUCH USES:

We will disclose records pursuant to the following routine uses; however, we will not disclose any information defined as “return or return information” under 26 U.S.C. 6103 of the Internal Revenue Code (IRC), unless authorized by statute, the Internal Revenue Service (IRS), or IRS regulations.

1. To the Department of Justice (DOJ), a court or other tribunal, or another party before such court or tribunal, when:

(a) The Social Security Administration (SSA), or any component thereof; or

(b) any SSA employee in his or her official capacity; or

(c) any SSA employee in his or her individual capacity where DOJ (or SSA, where it is authorized to do so) has agreed to represent the employee; or

(d) the United States or any agency thereof where SSA determines that the litigation is likely to affect SSA or any of its components, is a party to litigation or has an interest in such litigation, and SSA determines that the use of such records by DOJ, a court or other tribunal, or another party before the tribunal, is relevant and necessary to the litigation, provided, however, that in each case, SSA determines that such disclosure is compatible with the purpose for which the records were collected.

2. To a congressional office in response to an inquiry from that office made on behalf of, and at the request of, the subject of the record or third party acting on the subject's behalf.

3. To the National Archives and Records Administration (NARA) under 44 U.S.C. 2904 and 2906.

4. To the Department of Veterans Affairs (VA), Regional Office, Manila, Philippines, for the administration of the Social Security Act in the Philippines and other parts of the Asia-Pacific region through services and facilities of that agency.

5. To the Department of State, for administration of the Social Security Act in foreign countries rough services and facilities of that agency.

6. To the American Institute, a private corporation under contract to the Department of State, for administering the Social Security Act in Taiwan through facilities and services of that agency.

7. To DOJ for:

(a) Investigating and prosecuting violations of the Social Security Act to which criminal penalties attach;

(b) representing the Commissioner of Social Security; and,

(c) investigating issues of fraud or violations of civil rights by officers or employees of the SSA.

8. To the Office of the President in response to an inquiry from that office made on behalf of, and at the request of, the subject of the record or a third party acting on the subject's behalf.

9. To the VA, for the shared administration of the VA's and SSA's representative payee programs.

10. To contractors and other Federal Agencies, as necessary, for the purpose of assisting the SSA in the efficient administration of its programs. We will disclose information under this routine use only in situations in which SSA may enter into a contractual or similar agreement to obtain assistance in accomplishing an SSA function relating to this system of records.

11. To a third party such as a physician, social worker, or community service worker, who has, or is expected to have, information, which is needed to evaluate one or both of the following:

(a) The claimant's capability to manage or direct the management of his or her benefits; or

(b) any case in which disclosure aids investigation of suspected misuse of benefits, abuse or fraud, or is necessary for program integrity, or quality appraisal activities.

12. To a third party, where necessary, information pertaining to the identity of a representative payee or representative payee applicant, the fact of the person's application for or service as a representative payee, and, as necessary, the identity of the beneficiary, to obtain information on employment, sources of income, criminal justice records, stability of residence, and other information relating to the qualifications and suitability of representative payees or representative payee applicants to serve as representative payees, or their use of the benefits paid to them under sections 205(j), 807, or 1631(a) of the Social Security Act.

13. To a claimant, or other individual authorized to act on his or her behalf, information concerning the status of his or her representative payee or the status of the application of a person applying to be his or her representative payee, and information pertaining to the address of a representative payee applicant or a selected representative payee, when this information is needed to pursue a claim for recovery of misapplied or misused benefits.

14. To the Railroad Retirement Board (RRB), for the administration of RRB's representative payment program.

15. To student volunteers, individuals working under a personal services contract, and other workers who technically do not have the status of Federal employees, when they are performing work for SSA, as authorized by law, and they need access to PII in SSA records in order to perform their assigned agency functions.

16. To the Office of Personnel Management (OPM), for the administration of OPM's representative payee programs.

17. To the Secretary of Health and Human Services or to any State, any record or information requested in writing by the Secretary for the purpose of administering any program administered by the Secretary, if records or information of such type were so disclosed under applicable rules, regulations and procedures in effect before the date of enactment of the Social Security Independence and Program Improvements Act of 1994.

18. To appropriate agencies, entities, and persons when:

(a) SSA suspects or has confirmed that there has been a breach of the system of records;

(b) SSA has determined that as a result of the suspected or confirmed breach, there is a risk of harm to individuals, SSA (including its information systems, programs, and operations), the Federal Government, or national security; and

(c) the disclosure made to such agencies, entities, and persons is reasonably necessary to assist in connections with SSA's efforts to respond to the suspected or confirmed breach or to prevent, minimize, or remedy such harm.

19. To third parties, contractors, or other Federal agencies, as necessary, to conduct criminal background checks and to obtain criminal history information on representative payees and representative payee applicants.

20. To Federal, State, and local law enforcement agencies and private security contractors, as appropriate, information necessary:

(a) To enable them to protect the safety of SSA employees and customers, the security of the SSA workplace and the operation of SSA facilities; or

(b) to assist investigations or prosecutions with respect to activities that affect such safety and security, or activities that disrupt the operation of SSA facilities.

21. To agencies or entities who have a written agreement with SSA, to perform representative payee reviews for SSA and to provide training, administrative oversight, technical assistance, and other support for those reviews.

22. To state protection and advocacy systems, that have a written agreement with SSA to conduct reviews of representative payees, for the purpose of conducting additional reviews that the protection and advocacy systems have reason to believe are warranted.

23. To agencies or entities with responsibility for investigating or addressing possible financial exploitation of, an immediate health or safety threat to, or other serious risk to the well-being of the beneficiary, for referral, when these issues are identified during a representative payee review

24. To another Federal agency or Federal entity, when SSA determines that information from this system of records is reasonably necessary to assist the recipient agency or entity in:

(a) Responding to a suspected or confirmed breach; or

(b) preventing, minimizing, or remedying the risk of harm to individuals, the recipient agency or entity (including its information systems, programs, and operations), the Federal Government, or national security, resulting from a suspected or confirmed breach.

POLICIES AND PRACTICES FOR STORAGE OF RECORDS:

We maintain records in this system in paper and electronic form.

POLICIES AND PRACTICES FOR RETRIEVAL OF RECORDS:

We will retrieve records by the representative payee's, beneficiary's, recipient's, or claimant's SSN, EIN or name.

POLICIES AND PRACTICES FOR RETENTION AND DISPOSAL OF RECORDS:

In accordance with NARA rules codified at 36 CFR 1225.16, we maintain records in accordance with the NARA approved Agency-Specific Records Schedules N1-47-09-04 and N1-47-09-5.

ADMINISTRATIVE, TECHNICAL, AND PHYSICAL SAFEGUARDS:

We retain electronic and paper files containing personal identifiers in secure areas and systems accessible only by our authorized employees who have a need for the information when performing their official duties. Security measures include, but are not limited to, the use of codes and profiles, personal identification number and password, and personal identification verification cards. We restrict access to specific correspondence within the system based on assigned roles and authorized users. We maintain electronic files with personal identifiers in secure storage areas. We will use audit mechanisms to record sensitive transactions as an additional measure to protect information from unauthorized disclosure or modification. We keep paper records in cabinets within secure areas, with access limited to only those employees who have an official need for access in order to perform their duties. We require agencies and entities performing work for SSA who require access to information from this system to impose equivalent safeguards.

We annually provide our employees, contractors, and others performing work for us with appropriate security awareness training that includes reminders about the need to protect PII and the criminal penalties that apply to unauthorized access to, or disclosure of PII. See 5 U.S.C. 552a(i)(1). Furthermore, those with access to databases maintaining PII are informed of the penalties for improper access and disclosure of PII.

RECORD ACCESS PROCEDURES:

Individuals may submit requests for information about whether this system contains a record about them by submitting a written request to the system manager at the above address, which includes their name, SSN, or other information that may be in this system of records that will identify them. Individuals requesting notification of, or access to, a record by mail must include: (1) A notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense. These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40 and 401.45.

EXEMPTIONS PROMULGATED FOR THE SYSTEM:

None.

HISTORY:

78 FR 23811, Master Representative Payee File.

83 FR 31250, Master Representative Payee File.

83 FR 31251, Master Representative Payee File.

[FR Doc. 2018-23941 Filed 11-1-18; 8:45 am]

BILLING CODE P